DEPARTMENT OF TRANSPORTATION

Surface Transportation Board

[STB Finance Docket No. 34508]

Central Railroad Company of Indianapolis—Lease and Operation Exemption—CSX Transportation, Inc.

The Central Railroad Company of Indianapolis, Chicago, Ft. Wayne & Eastern Railroad Division (CFER), a Class III rail carrier, has filed a verified notice of exemption under 49 CFR 1150.41 to lease and operate, pursuant to an agreement with CSX Transportation, Inc. (CSXT), approximately 273 miles of rail line as follows: (1) The Fort Wayne line between Adams, IN, milepost QF 314.0, and Crestline, OH, milepost QF 191.3; (2) the Fort Wayne Secondary between Tolleston, IN, milepost QF 441.8, and Adams, IN, milepost QF 314.0; (3) the Decatur Second between Adams, IN, milepost QFD 86.6, and Decatur, IN, milepost QFD 70.4; and (4) the Spore Industrial Track between Bucyrus, OH, milepost QFS 69.32, and Spore, OH, milepost QFS 62.85. In addition, CFER will acquire incidental trackage rights over New York Central Lines LLC's (NYC) Fort Wayne Secondary, operated by CSXT, between approximate milepost PC 441.0 near Tolleston, IN, and the connection of NYC's East-West Line, operated by CSXT, with lines of Indiana Harbor Belt Railroad Company (IHB) at IHB milepost 7.0 approximately at Calumet Park, IL, via: (1) NYC's Fort Wayne Secondary between milepost 441.0 and connection of Fort Wayne Secondary with CSXT's Porter Branch at Porter Branch milepost 255.1 at Tolleston; (2) Porter Branch between milepost 255.1 and connection of Porter Branch with CSXT's East-West Line at Porter Branch milepost 259.5 at CP Ivanhoe, IN; and (3) East-West Line between milepost 255.1 and the connection of the East-West Line with IHB-owned trackage at approximately IHB milepost 7.0 at Calumet Park, IL, a total distance of approximately 12.2 miles.¹

¹ CFER indicates that it is negotiating an agreement with CSXT for CFER's lease and operation of the line.

Because CFER's projected annual revenues will exceed $5 million, CFER certified to the Board on May 20, 2004, that it sent the required notice of the transaction on May 18, 2004, to the national offices of all labor unions representing employees on the line and posted a copy of the notice at the workplace of the CSXT employees on the affected lines on May 18, 2004. See 49 CFR 1150.42(e).² The transaction is scheduled to be consummated on August 1, 2004.

² On June 30, 2004, CFER requested a waiver of the Board's 60-day advance notice requirements at 49 CFR 1150.42(e) as to four employees of Norfolk Southern Railway Company (NS) in Pittsburgh, PA, who dispatch the line and who may be affected by this transaction. The Board granted this waiver request in a decision served July 15, 2004, so that the transaction could go forward without waiting until 60 days after certification that notice had been posted for the NS dispatchers, but directed that notice of the transaction be posted no later than July 19, 2004, at the workplace of the four NS dispatchers. In a letter filed on July 19, 2004, NS certified that such notice was posted on that date.

If the verified notice contains false or misleading information, the exemption is void ab initio. Petitions to revoke the exemption under 49 U.S.C. 10502(d) may be filed at any time. The filing of a petition to revoke will not automatically stay the transaction.

An original and 10 copies of all pleadings, referring to STB Finance Docket No. 34508, must be filed with the Surface Transportation Board, 1925 K Street, NW., Washington, DC 20423-0001. In addition, a copy of each pleading must be served on: Gary A. Laakso, Vice President Regulatory Counsel, Central Railroad Company of Indianapolis, 5300 Broken Sound Blvd., NW., Boca Raton, FL 33487, and Louis E. Gitomer, Ball Janik LLP, 1455 F Street, NW., Suite 225, Washington, DC 20005.

Board decisions and notices are available on our Web site at “http://www.stb.dot.gov.”

Decided: July 26, 2004.
By the Board, David M. Konschnik, Director, Office of Proceedings.
Vernon A. Williams,
Secretary.

[FR Doc. 04-17325 Filed 7-29-04; 8:45 am]

BILLING CODE 4915-01-P